DEPARTMENT OF COMMERCE

National Oceanic and Atmospheric Administration

Draft Revised Management Plan for the Guana Tolomato Matanzas National Estuarine Research Reserve

AGENCY: Office for Coastal Management, National Ocean Service, National Oceanic and Atmospheric Administration, Department of Commerce.

ACTION: Request for comments.

SUMMARY: The National Oceanic and Atmospheric Administration (NOAA) is soliciting comments from the public regarding a proposed revision of the management plan for the Guana Tolomato Matanzas National Estuarine Research Reserve. A management plan provides a framework to guide a reserve's programs, track progress toward meeting its goals, and identify potential opportunities or changes in direction. It is also used to guide programmatic evaluations of a reserve. Management plan revisions are required at least every five years. This draft revised management plan is intended to replace the Guana Tolomato Matanzas National Estuarine Research Reserve management plan, which was approved in 2009.

DATES: Comments must be received at the appropriate address (see ADDRESSES) on or before September 3, 2024.

ADDRESSES: The draft revised management plan can be downloaded or viewed at: https://floridadep.gov/sites/default/files/GTM-NERR-Management-Plan.pdf. It is also available by sending a written request to the point of contact identified below (see FOR FURTHER INFORMATION CONTACT).

You may submit comments by email to steph.robinson@noaa.gov. Include “Comments on draft Guana Tolomato Matanzas Management Plan” in the subject line of the message. NOAA will accept anonymous comments, however, the written comments NOAA receives are considered part of the public record, and the entirety of the comment, including the name of the commenter, email address, attachments, and other supporting materials, will be publicly accessible. Sensitive personally identifiable information, such as account numbers and Social Security numbers, should not be included with the comment. Comments that are not related to the Management Plan for the Guana Tolomato Matanzas National Estuarine Research Reserve, or that contain profanity, vulgarity, threats, or other inappropriate language will not be considered.

FOR FURTHER INFORMATION CONTACT: Stephanie Robinson, on contract with NOAA's Office for Coastal Management, steph.robinson@noaa.gov, (843) 481-0190.

SUPPLEMENTARY INFORMATION: Pursuant to 15 CFR 921.33(c), Florida must revise the management plan for the Guana Tolomato Matanzas National Estuarine Research Reserve at least every five years. If approved by NOAA, the revised management plan for the Guana Tolomato Matanzas National Estuarine Research Reserve will replace the plan previously approved in 2009.

Management plans outline a reserve's strategic goals and objectives; administrative structure; programs for conducting research and monitoring, education, and training; resource protection, restoration, and manipulation plans; public access and visitor use plans; consideration for future land acquisition; and facility development to support reserve operations. In particular, this draft revised management plan for the Guana Tolomato Matanzas reserve focuses on changes to the strategic plan, physical boundaries, and enhanced programmatic alignment across the reserve's sectors.

Since the last management plan, the Guana Tolomato Matanzas National Estuarine Research Reserve received approval for an expansion of the site's boundary—March 2020—to include the City of St. Augustine's sovereign submerged lands within the Matanzas River and Salt Run, the state sovereign submerged lands along the Matanzas and Tolomato Rivers that connect the City of St. Augustine portion to the previous boundary, and the Marshview parcel in the southern portion of the reserve. In addition, the reserve completed several facility construction projects: the Princess Place Legacy House and Cabins for visiting investigator use; a freshwater wetland boardwalk; a freshwater marsh boardwalk on the Guana Preserve Yellow Trail; and a storage facility (pole barn). The reserve also installed redesigned interpretive displays at the Visitor Center and along several trails within the reserve. The revised management plan, once approved, would serve as the guiding document for the 75,761-acre Guana Tolomato Matanzas National Estuarine Research Reserve for the next five years.

NOAA's Office for Coastal Management analyzes the environmental impacts of the proposed approval of this management plan in accordance with the National Environmental Policy Act of 1969 (NEPA), as amended, 42 U.S.C. 4321 et seq., and the Council on Environmental Quality Regulations for Implementing the Procedural Provisions of NEPA (40 CFR 1500-1508 (2022)). The public is invited to comment on the draft revised management plan. NOAA will take these comments into consideration when deciding whether to approve the revised management plan in whole or in part.

Authority: 16 U.S.C. 1451 et seq.; 15 CFR 921.33.

Keelin S. Kuipers,
Deputy Director, Office for Coastal Management, National Ocean Service, National Oceanic and Atmospheric Administration.

[FR Doc. 2024-17057 Filed 8-1-24; 8:45 am]

BILLING CODE 3510-08-P